DEPARTMENT OF COMMERCE

National Oceanic and Atmospheric Administration

50 CFR Part 224

[I.D. 102599C]

Extension of Comment Period for Proposed Rule Governing the Approach to Humpback Whales in Alaska

AGENCY: National Marine Fisheries Service (NMFS), National Oceanic and Atmospheric Administration (NOAA), Commerce.

ACTION: Proposed rule; extension of public comment period.

SUMMARY: NMFS is extending the public comment period, published in the June 26, 2000 Federal Register, for its Proposed Rule Governing the Approach to Humpback Whales in Alaska from August 10, 2000, to October 15, 2000.

DATES: Written comments on the above-mentioned proposed rule must be received no later than 5 p.m. Pacific standard time, on October 15, 2000.

ADDRESSES: Written comments on the proposed rule should be sent to Mike Payne, Assistant Regional Administrator, Protected Resources Division, NMFS, Alaska Region, P.O. Box 21668, Juneau, Alaska 99802-1668. Comments also may be sent via facsimile (fax) to 907/586-7012. Comments will not be accepted if sent via e-mail or the Internet. Courier or hand delivery of comments may be made to NMFS in the Federal Building, Room 461, Juneau, AK 99801.

FOR FURTHER INFORMATION CONTACT: Kaja Brix, NMFS Alaska Region, 907/586-7235, or Jeannie Drevenak, Permits Division, NMFS Office of Protected Resources, 301/713-2289.

SUPPLEMENTARY INFORMATION: The Endangered Species Act (ESA), 16 U.S.C. 1531 et seq.) and the Marine Mammal Protection Act 16 U.S.C. 1361 et seq. (MMPA), give NMFS jurisdiction over humpback whales. The proposed regulations are promulgated under the authority of both the ESA and the MMPA. The rule is an appropriate mechanism to promote conservation and recovery of humpback whales and to enhance enforcement under the ESA. Section 11(f) of the ESA provides NMFS with broad rulemaking authority to enforce the provisions of the ESA.

On June 26, 2000 (65 FR 39336), NMFS issued a proposed rule under 50 CFR part 224 of the ESA that would prohibit the approach within 200 yards (182.8 m) of a humpback whales, Megaptera novaeangliae, in waters within 200 nautical miles (370.4 km) of the coast of Alaska. Under these regulations, it would be unlawful for a person subject to the jurisdiction of the United States to approach, by any means, within 200 yards (182.8 m) of a humpback whales. This action is necessary to minimize disturbance to humpback whales in waters off Alaska and is intended to promote conservation and recovery of humpback whales. In response to public request, NMFS is extending the comment period for this proposed rule from August 10, 2000, to October 15, 2000, to facilitate public participation in this regulatory process.

Dated: August 9, 2000.
Penelope D. Dalton,
Assistant Administrator for Fisheries, National Marine Fisheries Service.

[FR Doc. 00-20609 Filed 8-9-00; 4:16 pm]

BILLING CODE 3510-22-F